DEPARTMENT OF DEFENSE

Department of the Army; Corps of Engineers

South Dakota Task Force Meeting

AGENCY: Department of the Army, U.S. Army Corps of Engineers, DoD.

ACTION: Notice of meeting.

SUMMARY: The duties of the Task Force are to prepare and approve a plan for the use of the funds made available under the Missouri River Restoration Act of 2000 (Title IX) to promote conservation practices in the Missouri River watershed, control and remove sediment from the Missouri River, protect recreation on the Missouri River from sedimentation, and protect Indian and non-Indian historical and cultural sites along the Missouri River from erosion.

DATES: The Task Force will hold a meeting on February 26, 2013 from 9:30 a.m. to 12:30 p.m.

ADDRESSES: The meeting will be held in the Highlands Room at the Clubhouse Hotel and Suites located at 808 West Sioux Avenue in Pierre, South Dakota.

FOR FURTHER INFORMATION CONTACT: Gwyn M. Jarrett at (402) 995-2717.

SUPPLEMENTARY INFORMATION: The objectives of the Task Force are to prepare and approve a plan for the use of the funds made available under Title IX, develop and recommend to the Secretary of the Army ways to implement critical restoration projects meeting the goals of the plan, and determine if these projects primarily benefit the Federal Government. Written requests may be sent to Gwyn M. Jarrett, U.S. Army Corps of Engineers, 1616 Capitol Avenue, Omaha, NE 68102-4901.

Dated: February 1, 2013.
Gwyn Jarrett,
Project Manager.

[FR Doc. 2013-02872 Filed 2-11-13; 8:45 am]

BILLING CODE 3720-58-P